FEDERAL EMERGENCY MANAGEMENT AGENCY

Agency Information Collection Activities: Proposed Collection; Comment Request

ACTION: Notice and request for comments.

SUMMARY: The Federal Emergency Management Agency (FEMA), as part of its continuing effort to reduce paperwork and respondent burden, invites the general public and other Federal agencies to take this opportunity to comment on the proposed information collection. In accordance with the Paperwork Reduction Act of 1995 (44 U.S.C. 3506(c)(2)(A)), this notice seeks comments concerning FEMA and other Federal agencies policies and procedures for providing Federal support for offsite radiological emergency planning and preparedness. It describes the process for providing Federal facilities and resources to the nuclear power plant licensee after an affirmative determination has been made on the licensee's certification of a “decline or fail” situation.

SUPPLEMENTARY INFORMATION: Executive Order 12657, dated November 18, 1998, charged FEMA and other Federal agencies with the emergency planning response in cases where State and Local governments have declined or failed to prepare emergency plans. To implement Executive Order 12657, FEMA worked with the Nuclear Regulatory Commission (NRC) and other Federal agencies on the Federal Radiological Preparedness Coordinating Committee (FRPCC) to develop regulation 44 CFR 352, Commercial Nuclear Power Plants: Emergency Preparedness planning. This regulation establishes policies and procedures for a licensee submission of a certification of “decline or fail”, and for FEMA's determination concerning Federal assistance to the licensee. It also establishes policies and procedures for providing Federal Support for offsite planning and preparedness.

In accordance with Executive Order 12657, FEMA will need certain information from the licensee in order to form a decision as to whether or not a condition of “decline or fail” exists on the part of State or Local governments (44 CFR 352.3-4). This information will be collected by the appropriate FEMA Regional Office or Headquarters. Also, when a licensee requests Federal facilities or resources, FEMA will need information from the NRC as to whether the licensee has made maximum use of its resources and the extent to which the licensee has complied with 10 CFR 50.47(c)(1) and 44 FR 352.5. This information will be collected by the NRC and will be provided to FEMA through consultation between the two agencies.

Collection of Information

Title: Federal Assistance for Offsite Radiological Emergency Planning.

Type of Information Collection: Reinstatement, without change of a previously approved collection for which approval has expired.

OMB Number: 3067-0201.

Form Numbers: None.

Abstract: In accordance with Executive Order 12657 and under regulation 44 CFR 352, FEMA will need certain information from the licensee in order to form a decision as to whether or not a condition of “decline or fail” exists on the part of the State or Local government. Also, when a licensee requests Federal facilities or resources, FEMA will need information from the NRC as to whether the licensee has made maximum use of its resources and the extent to which the licensee has complied with 10 CFR 50.47(c)(1).

Affected Public: Business or Other For-Profit and State, Local or Tribal Government.

Estimated Total Annual Burden Hours: 160.

Estimated Cost: 3,323.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact William McNutt, Program Specialist, Office of National Preparedness and (202) 646-2857 for additional information. You may contact Ms. Anderson for copies of the proposed collection of information at telephone number (202) 646-2625 or facsimile number (202) 646-3347 or email muriel.Anderson@fema.gov.

Dated: July 29, 2002.
Reginald Trujillo,
Branch Chief, Program Services and Systems Branch, Facilities Management and Services Division, Administration and Resource Planning Directorate.

[FR Doc. 02-19753 Filed 8-5-02; 8:45 am]

BILLING CODE 6718-01-P